DEPARTMENT OF HOUSING AND URBAN DEVELOPMENT

[Docket No. FR-5823-N-02]

Federal Housing Administration (FHA): Points of Contact To Ensure Payment of Taxes and Homeowners Association Fees and Other Property Charges That Have Not Arisen to Lien Status on FHA Acquired Single Family Properties

AGENCY: Office of the Assistant Secretary for Housing-FHA Commissioner, HUD.

ACTION: Notice of FHA points of contact for payment.

SUMMARY: This Notice proactively provides taxing authorities and others that are owed money on HUD-owned single family properties acquired by payment of FHA mortgage insurance claims, points of contact to ensure payment of taxes, homeowners association fees and other property charges that have not risen to lien status under state law on these properties. FHA uses contractors to manage these properties and make property charge payments. Inadvertently at times, these payments may remain unpaid. This Notice provides direction for taxing authorities and associations owed money (where there is no lien) for finding the appropriate proper point of contact for payment. Through a related notice published elsewhere in today's Federal Register, HUD provides separate points of contact for payment of taxes and property charges which have risen to lien status. As litigation to enforce liens should be a last resort, HUD is also providing specific points of contact that taxing authorities and others can use to obtain payment in lien cases and avoid litigation. Elsewhere in today's Federal Register, HUD is also publishing an interpretive rule regarding the procedures to be followed in bringing an action to foreclose HUD's ownership interest in properties when these property charges have risen to lien status due to nonpayment of the taxes, fees and other charges.

DATES: Effective date: October 15, 2015.

FOR FURTHER INFORMATION CONTACT: Ivery Himes, Director, Office of Single Family Asset Management, Office of Housing, Department of Housing and Urban Development, 451 7th Street SW., Room 9172, Washington, DC 20410-8000, telephone number 202-708-1672 (this is not a toll-free number). Persons with hearing or speech impairments may access this number through TTY by calling the toll-free Federal Relay Service at 800-877-8339.

SUPPLEMENTARY INFORMATION:

I. Background

HUD contracts with private Management and Marketing (M&M) contractors to handle the sale of its inventory of single family acquired properties. HUD published a delegation of authority, authorizing its M&M contractor to act on behalf of HUD in matters regarding the management and sale of residential property acquired by HUD, including the direct payment of association fees, taxes and other property charges that have not risen to lien status due to nonpayment of these charges on its real estate owned (REO) inventory.

II. Points of Contact and Procedure

In most cases, having a known point of contact for payment of billings should expedite the payment of taxes, association fees and other property charges that have not risen to lien status under state law on HUD-owned single family properties acquired by payment of FHA mortgage insurance claims. HUD requests that all invoices or inquiries pertaining to such unpaid property charges be remitted to the appropriate geographical M&M contractor. In order to assist taxing authorities and homeowner associations, or other municipal entities, identify the appropriate M&M contractor to remit invoices, HUD has provided the following link that will identify by the state or portion of a state in which a specific property is located, the contact information for the geographically responsible M&M contractor as follows: http://portal.hud.gov/hudportal/HUD?src=/program_offices/housing/sfh/reo/mm/mminfo, and follow the “AM Awardees Contact Information” hyperlink located at the bottom of the page.

For further information or for additional assistance in identifying the appropriate M&M contractor to contact, place contact the FHA Resource Center at 1-800-CALLFHA (800-225-5342).

Dated: October 7, 2015.
Edward L. Golding,
Principal Deputy Assistant Secretary for Housing.

[FR Doc. 2015-26169 Filed 10-14-15; 8:45 am]

BILLING CODE 4210-67-P